DEPARTMENT OF JUSTICE

[OMB Number 1190-0019]

Agency Information Collection Activities; Proposed eCollection; eComments Requested; Extension Without Change of a Currently Approved Collection. Requirement That Movie Theaters Provide Notice as to the Availability of Closed Movie Captioning and Audio Description

AGENCY: Civil Rights Division, Department of Justice.

ACTION: 30-Day notice.

SUMMARY: The Disability Rights Section (DRS), Civil Rights Division, Department of Justice (the Department), will submit the following information collection extension request to the Office of Management and Budget (OMB) for review and approval in accordance with the Paperwork Reduction Act of 1995 (PRA).

DATES: Comments are encouraged and will be accepted for 30 days until October 13, 2022.

FOR FURTHER INFORMATION CONTACT: If you have additional comments (especially on the estimated public burden or associated compliance time) or need additional information, please contact: Rebecca B. Bond, Chief, Disability Rights Section, Civil Rights Division, U.S. Department of Justice, by mail at 4CON, 950 Pennsylvania Ave. NW, Washington, DC 20530; send an email to DRS.PRA@usdoj.gov; or call (800) 514-0301 (voice) or (800) 514-0383 (TTY) (the Division's Information Line). Written comments and/or suggestions can also be sent to the Office of Management and Budget, Office of Information and Regulatory Affairs, Attention Department of Justice Desk Officer, Washington, DC 20503 or sent to OIRA_submissions@omb.eop.gov. Include the title of this proposed collection: “Requirement that Movie Theaters Provide Notice as to the Availability of Closed Movie Captioning and Audio Description,” in the subject line of all written comments. You may obtain copies of this notice in an alternative format by calling the Americans with Disabilities Act (ADA) Information Line at (800) 514-0301 (voice) or (800) 514-0383 (TTY).

SUPPLEMENTARY INFORMATION: Written comments and suggestions from the public and affected agencies concerning the proposed collection of information are encouraged. Your comments should address one or more of the following four points:

• Evaluate whether the proposed collection of information is necessary for the proper performance of the functions of the Civil Rights Division, including whether the information will have practical utility;

• Evaluate the accuracy of the agency's estimate of the burden of the proposed collection of information, including the validity of the methodology and assumptions used;

• Evaluate whether, and if so, how the quality, utility, and clarity of the information to be collected can be enhanced; and

• Minimize the burden of the collection of information on those who are to respond, including through the use of appropriate automated, electronic, mechanical, or other technological collection techniques or other forms of information technology, e.g., permitting electronic submission of responses.

Overview of Information Collection

1. Type of information collection: Extension of Currently Approved Collection.

2. The title of the form/collection: Requirement that Movie Theaters Provide Notice as to the Availability of Closed Movie Captioning and Audio Description.

3. The agency form number, if any, and the applicable component of the Department sponsoring the collection:

Sponsor: The applicable component within the Department of Justice is the Civil Rights Division.

4. Affected public who will be required to comply, as well as a brief abstract:

Affected Public (Primary): Businesses and not-for-profit institutions that own, operate, or lease a movie theater that has one or more auditoriums showing digital movies with closed movie captioning and audio description, and that provide notice of movie showings and times. Under the relevant regulation, “movie theater” means a facility other than a drive-in theater that is used primarily for the purpose of showing movies to the public for a fee.

Affected Public (Other): None.

Abstract: The Disability Rights Section (DRS), Civil Rights Division, Department of Justice is seeking to extend its information collection arising from a regulatory provision that requires covered movie theaters to disclose information to the public regarding the availability of closed movie captioning and audio description for movies shown in their auditoriums.

Title III of the Americans with Disabilities Act (ADA), at 42 U.S.C. 12182, prohibits public accommodations from discriminating against individuals with disabilities. The existing ADA title III regulation, at 28 CFR 36.303(a)-(g), requires covered entities to ensure effective communication with individuals with disabilities. The title III regulation clarifies that movie theaters that provide captioning or audio description for digital movies must ensure “that all notices of movie showings and times at the box office and other ticketing locations, on websites and mobile apps, in newspapers, and over the telephone, inform potential patrons of the movies or showings that are available with captioning and audio description.” 28 CFR 36.303(g). This requirement does not apply to any third-party providers of films, unless they are part of or subject to the control of the public accommodation. Id. Movie theaters' disclosure of this information will enable individuals with hearing and vision disabilities to readily find out where and when they can have access to movies with these features.

5. An estimate of the total number of respondents and the amount of time estimated for an average respondent to respond: The Department's initial PRA request for this collection relied on U.S. Census Bureau data from 2012 and estimated that there was a total of 1,876 firms owning one or more movie theaters in the United States that were potentially subject to this disclosure. See 81 FR 37643 (June 10, 2016). The most recent U.S. Census Bureau data, from 2019, estimated that there was a total of 1,892 firms owning one or more movie theaters. See U.S. Census Bureau, 2019 SUSB Annual Data Tables by Establishment Industry, Data by Enterprise Employment Size, U.S., 6-digit NAICS (512131). As the vast majority of U.S. movie theaters now show digital movies, which typically allow for closed captioning and audio description, to the extent that each of these movie theater firms that shows digital movies provides notices of movie showings and times to the public about those films, they must provide information concerning the availability of closed movie captioning and audio description in their communications.

Estimated average time to respond: The Department acknowledges that the amount of time it will take a respondent to comply with this requirement may vary depending on the number of movies that the respondent is showing at any given time. Based on information gathered during the initial rulemaking process, the Department estimates that respondents will take an average of up to 10 minutes each week to update existing notices of movie showings and times with closed captioning and audio description information. Therefore, the Department estimates that each firm owning one or more theaters offering digital movies with closed captioning or audio description will spend approximately ((10 minutes/week × 52 weeks/year) ÷ 60 minutes/hour) 8.7 hours each year to comply with this requirement.

The Department anticipates that firms owning one or more movie theaters will likely update their existing listings of movie showings and times to include information concerning the availability of closed movie captioning and audio description on a regular basis. The Department's research suggests that this information would only need to be updated whenever a new movie with these features is added to the schedule. This will vary as some movies stay on the schedule for longer periods of time than others, but the Department estimates that respondent firms will update their listings to include this information weekly. In the future, if all movies are distributed with these accessibility features, specific notice on a movie-by-movie basis may no longer be necessary and firms owning movie theaters may only need to advise the public that they provide closed captioning and audio description for all of their movies.

6. An estimate of the total annual public burden (in hours) associated with the collection: The estimated public burden associated with this collection is 16,460 hours. The Department estimates that respondents will take an average of 10 minutes each week to update their existing listings of movie showings and times with the required information about closed captions and audio description. If each respondent spends 10 minutes each week to update its notices of moving showings and times to include this information, the average movie theater firm will spend 8.7 hours annually ((10 minutes/week × 52 weeks/year) ÷ 60 minutes/hour) complying with this requirement. The Department expects that the annual public burden hours for disclosing this information will total (1,892 respondents × 8.7 hours/year) 16,460 hours.

If additional information is required, contact: Robert Houser, Assistant Director, Policy and Planning Staff, Justice Management Division, United States Department of Justice, Two Constitution Square, 145 N Street NE, 3E.206, Washington, DC 20530.

Dated: September 7, 2022.
Robert Houser,
Assistant Director, Policy and Planning Staff, Office of the Chief Information Officer, U.S. Department of Justice.

[FR Doc. 2022-19710 Filed 9-12-22; 8:45 am]

BILLING CODE 4410-13-P